DEPARTMENT OF ENERGY

Federal Energy Regulatory Commission

Combined Notice of Filings

Take notice that the Commission has received the following Natural Gas Pipeline Rate and Refund Report filings:

Docket Number: PR20-63-001.

Applicants: Southwest Gas Corporation.

Description: § 284.123 Rate Filing: Florida Southeast Connection, LLC—Cost and Revenue Study—CP14-554 to be effective N/A.

Filed Date: 7/9/20.

Accession Number: 20200709-5000.

Comments/Protests Due: 5 p.m. ET 7/23/2020.

Docket Numbers: RP20-1021-000.

Applicants: Tennessee Gas Pipeline Company, L.L.C.

Description: § 4(d) Rate Filing: Volume No. 2—Spotlight Energy, LLC SP359477 to be effective 7/15/2020.

Filed Date: 7/14/20.

Accession Number: 20200714-5051.

Comments Due: 5 p.m. ET 7/27/20.

Docket Numbers: RP20-1022-000.

Applicants: Florida Southeast Connection, LLC.

Description: Compliance filing Florida Southeast Connection, LLC—Cost and Revenue Study—CP14-554 to be effective N/A.

Filed Date: 7/14/20.

Accession Number: 20200714-5100.

Comments Due: 5 p.m. ET 7/27/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 15, 2020.
Nathaniel J. Davis, Sr.,
Deputy Secretary.

[FR Doc. 2020-15713 Filed 7-20-20; 8:45 am]

BILLING CODE 6717-01-P